NATIONAL AERONAUTICS AND SPACE ADMINISTRATION

[Notice 05-010]

NASA Space Science Advisory Committee, Solar System Exploration Subcommittee; Meeting

AGENCY: National Aeronautics and Space Administration (NASA).

ACTION: Notice of meeting.

SUMMARY: The National Aeronautics and Space Administration announces a meeting of the NASA Space Science Advisory Committee (SScAC), Solar System Exploration Subcommittee (SSES).

DATES: Monday, February 14, 2005, 8:30 a.m. to 5:30 p.m., and Tuesday, February 15, 2005, 8:30 a.m. to 5 p.m.

ADDRESSES: Santa Fe Institute, Noyce Conference Room, 1399 Hyde Park Road, Sante Fe, NM 87501.

FOR FURTHER INFORMATION CONTACT: Dr. Michael H. New, Science Mission Directorate, National Aeronautics and Space Administration, Washington, DC 20546, (202) 358-1766, michael.h.new@nasa.gov.

SUPPLEMENTARY INFORMATION: The meeting will be open to the public up to the seating capacity of the room. The agenda for the meeting is as follows:

—Status of Solar System Exploration

—Status of Mars Exploration Program

—Update on the Discovery Program

—Kepler Mission Update

—Update on Deep Space Network

—Status of Robotic Lunar Exploration Program

—Update on Jupiter Icy Moons Orbiter

It is imperative that the meeting be held on these dates to accommodate the scheduling priorities of the key participants. Attendees will be requested to sign a visitor's register.

Dated: January 21, 2005.
P. Diane Rausch,
Advisory Committee Management Officer, National Aeronautics and Space Administration.

[FR Doc. 05-1547 Filed 1-27-05; 8:45 am]

BILLING CODE 7510-13-P